DEPARTMENT OF THE TREASURY

United States Mint

Pricing for the 2014 National Baseball Hall of Fame Young Collectors Set

AGENCY: United States Mint, Department of the Treasury.

ACTION: Notice.

SUMMARY: The United States Mint is announcing a price of $24.95 for the 2014 National Baseball Hall of Fame Young Collectors Set.

FOR FURTHER INFORMATION CONTACT: J. Marc Landry, Acting Associate Director for Sales and Marketing; United States Mint; 801 9th Street NW., Washington, DC 20220; or call 202-354-7500.

Authority: 31 U.S.C. 5111, 5112 & 9701

Dated: July 18, 2014.
Richard A. Peterson,
Deputy Director, United States Mint.

[FR Doc. 2014-17329 Filed 7-22-14; 8:45 am]

BILLING CODE 4810-37-P